DEPARTMENT OF THE INTERIOR

Fish and Wildlife Service

Information Collection Renewal To Be Sent to the Office of Management and Budget (OMB) for Approval Under the Paperwork Reduction Act; OMB Control Number 1018-0119; Policy for Evaluating Conservation Efforts When Making Listing Decisions

AGENCY: Fish and Wildlife Service, Interior.

ACTION: Notice; request for comments.

SUMMARY: We (Fish and Wildlife Service, Service) plan to send OMB a request to renew approval for information collections associated with our Policy for Evaluation of Conservation Efforts When Making Listing Decisions (PECE). We use the information that we collect as part of the basis for identifying conservation efforts that can contribute to a decision to not list a species under the Endangered Species Act (ESA) or to list a species as threatened rather than endangered.

DATES: You must submit comments on or before October 14, 2005.

ADDRESSES: Send your comments on this information collection to Hope Grey, Information Collection Clearance Officer, Fish and Wildlife Service, MS 222-ARLSQ, 4401 North Fairfax Drive Arlington, Virginia 22203 (mail); hope_grey@fws.gov (e-mail); or (703) 358-2269 (fax).

FOR FURTHER INFORMATION CONTACT: To request a copy of the information collection requirements or explanatory material, contact Hope Grey, Information Collection Clearance Officer, at the above addresses or by telephone at (703) 358-2482. For information related to the Policy for Evaluation of Conservation Efforts When Making Listing Decisions, please visit our Web site at http://www.fws.gov/endangered/listing/pece-final.pdf.

SUPPLEMENTARY INFORMATION: The OMB regulations at 5 CFR 1320, which implement provisions of the Paperwork Reduction Act of 1995 (44 U.S.C. 3501 et seq.), require that interested members of the public and affected agencies have an opportunity to comment on information collection and recordkeeping activities (see 5 CFR 1320.8(d)). We will ask OMB to renew approval of the collection of information for certain types of conservation agreements, conservation plans, and similar documents in relation to PECE (68 FR 15100, March 28, 2003). The current OMB control number for this collection of information is 1018-0119, which expires on December 31, 2005. We will request a 3-year term of approval for this information collection activity. Federal agencies may not conduct or sponsor and a person is not required to respond to a collection of information unless it displays a currently valid OMB control number.

The ESA specifies the process by which we can list species as threatened or endangered. When we consider whether or not to list a species, the ESA requires us to take into account “those efforts, if any, being made by any State * * * or any political subdivision of a State * * * to protect such species * * *.” States or other entities often formalize conservation efforts in conservation agreements, conservation plans, management plans, or similar documents. The actions proposed in conservation plans could prevent some species under the ESA. The development of such agreements or plans is voluntary, and there is no requirement that the agreement or plans, or the individual conservation efforts they include, be designed to meet the criteria in PECE. However, PECE encourages the development of conservation agreements/plans and provides certainty about the standard that individual conservation efforts contained in an agreement/plan must meet so that we can consider that such efforts contribute to forming a basis for a listing determination.

PECE applies to formal conservation efforts developed regardless of intent to influence a listing decision or involvement of the Service. Only those agreements/plans developed with the intent of influencing a listing decision and with involvement of the Service constitute an information collection that requires OMB approval under the Paperwork Reduction Act.

PECE specifies that to consider that a conservation effort contributes to forming a basis for not listing a species or listing a species as threatened rather than endangered, the Service must find the effort is sufficiently certain to be implemented and effective so as to have contributed to the elimination or adequate reduction of one or more threats to the species. To gauge whether or not this standard has been met, PECE includes criteria for evaluating the certainty of implementation and the certainty of effectiveness of individual conservation efforts. One criterion for evaluating the certainty of effectiveness of a conservation effort is that the agreement/plan contains provisions for monitoring and reporting progress on implementation and effectiveness of the effort. The nature of the monitoring and reporting will vary according to the species addressed, land ownership, specific conservation efforts, expertise of participants, and other factors. The information collected through monitoring is invaluable to the Service, the States, and other entities implementing agreements and plans, and to others concerned about the welfare of the species covered by the agreements/plans.

Estimating the amount of work associated with developing a conservation agreement or plan is difficult because:

(1) The development and associated monitoring of conservation efforts are completely voluntary, and we cannot predict who will decide to develop these efforts,

(2) We cannot predict which species will become the subjects of conservation efforts, and, therefore, cannot predict the nature and extent of conservation efforts and monitoring that might be included in conservation agreements/plans designed with the intent of influencing a decision regarding listing a species; and

(3) Many agreements/plans, such as agency land management plans, are developed to satisfy requirements of other laws or for other purposes, and we cannot predict whether or the extent to which some of these plans may be expanded to attempt to make listing unnecessary. Consequently, we must base our estimate of the amount of work associated with developing conservation agreements or plans and monitoring and reporting of conservation efforts on information from conservation agreements developed in the past.

We estimate the public reporting burden for the information collection covered by this renewal to average 2,500 hours for developing one agreement with the intent to preclude a listing, 320 hours for annual monitoring under one agreement, and 80 hours for one annual report. We expect that six agreements with the intent of making listing unnecessary will be developed in 1 year and that four of these will be successful in making listing unnecessary, and therefore, the entities that develop these four agreements will carry through with their monitoring and reporting commitments.

Title: Policy for Evaluating Conservation Efforts When Making Listing Decisions.

Approval Number: 1018-0119.

Form Numbers: None.

Frequency of Collection: Occasional.

Description of Respondents: Federal agencies, states, tribes, local governments, individuals, not-for-profit institutions.

Total Annual Burden Hours: 16,600 hours.

Total Annual Responses: 6.

We invite your comments on: (1) Whether or not the collection of information is necessary for the proper performance of the Policy for Evaluation of Conservation Efforts When Making Listing Decisions, including the opinion of the respondent regarding the practical utility of the information; (2) the accuracy of our estimate of the annual hour burden of information requested; (3) ways to enhance the quality, utility, and clarity of the information to be collected; and (4) ways to minimize the burden of the collection of information on respondents. The information collections in this program will be part of a system of records covered by the Privacy Act (5 U.S.C. 552(a)).

Dated: August 3, 2005.
Hope Grey,
Information Collection Clearance Officer, Fish and Wildlife Service.

[FR Doc. 05-16086 Filed 8-12-05; 8:45 am]

BILLING CODE 4310-55-M